DEPARTMENT OF COMMERCE

International Trade Administration

(A-427-801, A-428-801, A-475-801, A-412-801)

Antifriction Bearings and Parts Thereof from France, Germany, Italy, and the United Kingdom; Five-Year Sunset Reviews of Antidumping Duty Orders; Final Results

AGENCY: Import Administration, International Trade Administration, Department of Commerce.

SUMMARY: On June 1, 2005, the Department of Commerce (the Department) initiated a sunset review of the antidumping duty orders on antifriction bearings and parts thereof from France, Germany, Italy and the United Kingdom pursuant to section 751(c) of the Tariff Act of 1930, as amended (the Act). On the basis of the notice of intent to participate and adequate substantive responses filed on behalf of the domestic interested parties and inadequate responses from respondent interested parties, the Department conducted expedited sunset reviews. As a result of these sunset reviews, the Department finds that revocation of the antidumping duty orders would likely lead to continuation or recurrence of dumping at the levels listed below in the section entitled “Final Results of Reviews.”

EFFECTIVE DATE: October 5, 2005.

FOR FURTHER INFORMATION CONTACT: Zev Primor or Fred W. Aziz, Office 5, AD/CVD Operations, Import Administration, International Trade Administration, U.S. Department of Commerce, 14th Street and Constitution Avenue, NW, Washington, DC 20230; telephone: (202) 482-4114 or (202) 482-4023.

SUPPLEMENTARY INFORMATION:

Background

On June 1, 2005, the Department initiated sunset reviews of the antidumping duty orders on antifriction bearings and parts thereof from France, Germany, Italy, and the United Kingdom pursuant to section 751(c) of the Act. See Initiation of Five-Year (“Sunset”) Reviews, 70 FR 31423 (June 1, 2005). The Department received Notices of Intent to Participate from the Timken Company, Pacamor Kubar Bearings, RBC Bearings, and NSK Corporation (NSK USA) (collectively, “the domestic interested parties”) within the deadline specified in 19 CFR 351.218(d)(1)(i) of the Department's regulations (“Sunset Regulations”). The domestic interested parties claimed interested-party status under section 771(9)(C) of the Act as producers of a domestic like product in the United States. We received complete substantive responses from the domestic interested parties within the 30-day deadline specified in 19 CFR 351.218(d)(3)(i).

We did not receive substantive responses from any respondent interested parties in the sunset reviews of the antidumping duty orders on antifriction bearings and parts thereof from France, Germany, or Italy. As a result, pursuant to section 751(c)(3)(B) of the Act and 19 CFR 351.218(e)(1)(ii)(C)(2), the Department conducted expedited sunset reviews of these orders.

For the sunset review of the antidumping duty order on antifriction bearings and parts thereof from the United Kingdom, the Department received a substantive response from respondent NSK Europe Ltd. and NSK Bearings Ltd. (collectively, NSK UK). The Department found that NSK UK did not meet the adequacy threshold pursuant to section 351.218(e)(1)(ii)(A) of the Sunset Regulations. For more information, see the Adequacy Determination Memorandum from the Sunset Team to Laurie Parkhill, dated July 21, 2005. As a result, pursuant to section 751(c)(3)(B) of the Act and 19 CFR 351.218(e)(1)(ii)(C)(2), the Department conducted an expedited sunset review of this order.

Scope of the Orders

Ball Bearings and Parts Thereof

The products covered by these orders are ball bearings and parts thereof (BBs). These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedule of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

Although the HTSUS subheadings above are provided for convenience and customs purposes, written descriptions of the scope of these orders remain dispositive.

Spherical Plain Bearings, Mounted or Unmounted, and Parts Thereof (France only):

These products include all spherical plain bearings (SPBs) that employ a spherically shaped sliding element and include spherical plain rod ends. Imports of these products are classified under the following HTSUS subheadings: 3926.90.45, 4016.93.00, 4016.93.00, 4016.93.10, 4016.93.50, 6909.50,10, 8483.30.80, 8483.90.30, 8485.90.00, 8708.93.5000, 8708.99.50, 8803.10.00, 8803.10.00, 8803.20.00, 8803.30.00, and 8803.90.90. The HTSUS subheadings are provided for convenience and customs purposes. The written description of the scope of this order is dispositive.

The size or precision grade of a bearing does not influence whether the bearing is covered by one of the orders. These orders cover all the subject bearings and parts thereof (inner race, outer race, cage, rollers, balls, seals, shields, etc.) outlined above with certain limitations. With regard to finished parts, all such parts are included in the scope of the these orders. For unfinished parts, such parts are included if (1) they have been heat-treated, or (2) heat treatment is not required to be performed on the part. Thus, the only unfinished parts that are not covered by these orders are those that will be subject to heat treatment after importation. The ultimate application of a bearing also does not influence whether the bearing is covered by the orders. Bearings designed for highly specialized applications are not excluded. Any of the subject bearings, regardless of whether they may ultimately be utilized in aircraft, automobiles, or other equipment, are within the scope of these orders.

For a listing of scope determinations which pertain to the orders, see the Scope Determination Memorandum (Scope Memorandum) from the Antifriction Bearings Team to Laurie Parkhill, dated April 15, 2005. The Scope Memorandum is on file in the Central Records Unit (CRU), Main Commerce Building, Room B-099, in the General Issues record (A-100-001) for the 03/04 reviews.

This sunset review covers imports of all producers and exporters of ball bearings, except for Paul Müller, for which the order was revoked. See Antifriction Bearings and Parts Thereof From: France, Germany, Italy, Japan, Singapore, and the United Kingdom: Final Results of Antidumping Duty Administrative Reviews, Rescission of Administrative Reviews in Part, and Determination To Revoke Order in Part, 69 FR 55574 (September 15, 2004).

Analysis of Comments Received

All issues raised in these cases are addressed in the “Issues and Decision Memorandum” from Barbara E. Tillman, Acting Deputy Assistant Secretary for Import Administration, to Joseph A. Spetrini, Acting Assistant Secretary for Import Administration, dated September 29, 2005 (Decision Memorandum), which is hereby adopted by this notice. The issues discussed in the Decision Memorandum include the likelihood of continuation or recurrence of dumping and the magnitude of the margin likely to prevail if the orders were revoked. Parties can find a complete discussion of all issues raised in these sunset reviews and the corresponding recommendations in this public memorandum, which is on file in the CRU, Room B-099 of the main Department building.

In addition, a complete version of the Decision Memorandum can be accessed directly on the Web at http://ia.ita.doc.gov. The paper copy and electronic version of the Decision Memorandum are identical in content.

Final Results of Reviews

We determine that revocation of the antidumping duty orders on antifriction bearings and parts thereof from France, Germany, Italy, and the United Kingdom would likely lead to continuation or recurrence of dumping at the following percentage weighted-average margins:

Manufacturers/exporters/producers | Weighted-average margin (percent)
France (BBs)
SKF France | 66.42
SNR Roulements | 56.50
INA France | 66.18
All Others | 65.13
France (SPBs)
SKF France | 39.00
All Others | 39.00
Germany (BBs)
SKF Germany | 132.25
FAG Germany | 70.41
INA | 31.29
All Others | 68.89
Italy (BBs)
SKF Italy | 69.99
FAG Italy | 68.29
All Others | 155.57
United Kingdom
SKF | 61.14
NSK/RHP | 44.02
All Others | 54.27

This notice also serves as the only reminder to parties subject to administrative protective orders (APO) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing these results and notice in accordance with sections 751(c), 752, and 777(i)(1) of the Act.

Dated: September 29, 2005.
Barbara E. Tillman,
Acting Assistant Secretary for Import Administration.

[FR Doc. E5-5457 Filed 10-5-05; 8:45 am]

BILLING CODE: 3510-DS-P